DEPARTMENT OF HEALTH AND HUMAN SERVICES

Centers for Disease Control and Prevention

[Program Announcement 03045]

Sexually Transmitted Disease (STD) Prevention Program Communication Network; Notice of Availability of Funds

Application Deadline: June 23, 2003.

A. Authority and Catalog of Federal Domestic Assistance Number

This program is authorized under section 318 of the Public Health Service Act, (42 U.S.C. section 247c) as amended. The Catalog of Federal Domestic Assistance Number is 93.978.

B. Purpose

The Centers for Disease Control and Prevention (CDC) announces the availability of fiscal year (FY) 2003 grant funds for a competitive grant program for Sexually Transmitted Disease (STD) Prevention. This program addresses the “Healthy People 2010” focus area of STD.

The purpose of this program is to facilitate, coordinate, integrate, and expand state and local efforts to improve overall delivery of national STD prevention services. Specifically, this program will provide a dynamic mechanism for: (1) Creating a flexible communications network among state and local STD Prevention Programs; (2) establishing a STD prevention services provider platform for integrated problem solving; (3) National STD prevention policy analysis by states; (4) decision making among state and local STD Prevention Program leaders; (5) expanding STD prevention partnerships and enhancing STD prevention knowledge, skills, and practice methods across STD project areas and local communities; and (6) providing a National representation and integrated focus of STD prevention concerns, issues, and ideas from state and local levels.

Measurable program performance will be in alignment with one or more of the following performance goals for the National Center for HIV/STD/TB Prevention: Reduce the incidence of primary and secondary syphilis; reduce the incidence of congenital syphilis; and reduce STD rates by providing Chlamydia and gonorrhea screening, treatment, and partner treatment to 50 percent of women in publicly funded family planning and STD clinics nationally.

C. Eligible Applicants

Applications may be submitted by: Public or private national nonprofit organizations with a comprehensive State and local area representation of key officials who are actively engaged in directing STD Prevention Program efforts.

Note: Title 2 of the United States Code section 1611 states that an organization described in section 501c(4) of the Internal Revenue Code that engages in lobbying activities is not eligible to receive Federal funds constituting an award, grant or loan.

D. Funding

Availability of Funds

Approximately $300,000 to $600,000 is available in FY 2003 to fund approximately one award. It is expected that the award will begin on or about September 1, 2003, and will be made for a 12-month budget period within a project period of up to three years. Funding estimates may change.

Continuation awards within an approved project period will be made on the basis of satisfactory progress as evidenced by required reports and the availability of funds.

Use of Funds

1. Funds may be used to:

a. Support personnel.

b. Purchase equipment, supplies and services directly related to project activities.

2. Funds may not be used to:

a. Supplant funds received by other Federal organizations.

b. Provide direct services.

Recipient Financial Participation

Matching funds are not a requirement for this program.

E. Program Requirements

In conducting activities to achieve the purpose of this program, the recipient will be responsible for the following activities:

1. Communications Network: Provide a National communication network to effect positive change in STD Prevention public health practices and services by organizing, establishing, and maintaining liaison activities and rapid communications with and among state and local STD Prevention Programs and their partner organizations across the nation.

2. Sharing of Information, Research, and Best Practices: Provide a mechanism to facilitate the sharing and communication across STD project areas and local communities of: (a) The latest information and technology including information on STD prevention methods (or strategies) that can include abstinence; monogamy, i.e., being faithful to a single sexual partner; or using condoms consistently and correctly. These approaches can avoid risk (abstinence) or effectively reduce risk for STDs (monogamy, condom use); (b) recent translation of research into public health practice; (c) possible training and education opportunities; and (d) best practices within STD Prevention. Also provide monthly information updates (e.g., newsletters, bulletin, etc.) to state and local STD Prevention Programs to facilitate the incorporation of STD prevention and control concepts into health promotion and health care planning and delivery systems.

3. External Partnerships: Provide a mechanism by which to coordinate and integrate STD prevention ideas, issues, and concerns from across STD project areas and local communities, and to create, present, and advocate a collective, focused, National perspective of these to CDC and other National level concerns.

4. STD Prevention Skills Assessment and Development: Provide a mechanism by which to assess the STD prevention skills development needs of the public and private health care providers across state and local communities, and identify/facilitate the development of appropriate skills development responses.

5. Annual Meeting: Sponsor and provide leadership for a nationally recognized forum (i.e., an annual meeting) for State and local STD directors across the nation in which to exchange and disseminate epidemiologic and other public health information, respond to emerging issues, develop and foster consistent state and local policy positions, and advise key officials, including CDC, on the prevention of STD.

6. Public Health Practice Enhancement: Identify and propose project activities in response to the findings from items one, two, three, and four; and perform activities either, independently or through third party partnerships, which will enhance communications, staff expertise, and public health program practices within the national STD Prevention Program network.

7. Facilitation of Participation in National Level STD Prevention Activities: Conduct activities (to include marketing and travel funding activities) to facilitate participation of state and local representatives in National STD Prevention forums.

F. Content

Application

The Program Announcement title and number must appear in the application. Use the information in the Program Requirements, Other Requirements, and Evaluation Criteria sections to develop the application content. Your application will be evaluated on the criteria listed, so it is important to follow them in laying out your program plan. The narrative should be no more than 25 pages, double-spaced, printed on one side, with one-inch margins, and unreduced 12-point font.

The narrative should address the following:

1. Experience: Demonstrate your experience representing program officials who are actively engaged in directing STD Prevention Program efforts, in providing a National network of communications to State and local STD Prevention Programs, and in establishing or expanding National level partnerships which support the development of STD prevention staff and the enhancement of STD Prevention Program efforts.

2. Collaboration and Representation: Document your organizations' affiliation and relationship with State and local STD Prevention Programs.

3. Understanding of the Project: Describe the problems to be addressed with the requested assistance and briefly propose a programmatic plan for each.

4. Objectives: Establish long (5 year) and short-term (1 year) objectives for programmatic plans. Objectives must be specific, measurable, time-phased, and realistic.

5. Operational Plan and Timetable: Describe the operational plan for achieving each objective established. Concisely describe each component or major activity and how it will be carried out. Include a time line for completing each component or major activity.

6. Staff Capacity: Provide position descriptions, qualifications, and past achievements for the positions/personnel proposed to be involved in the administration of this project. Also provide the qualifications and past achievements of the personnel proposed to provide technical program direction.

7. Evaluation Plan: Discuss the plan for monitoring progress toward each of the objectives.

8. Budget: Submit a detailed budget and line-item justification that is consistent with the program purpose and proposed activities.

G. Submission and Deadline

Submit the signed original and two copies of the application PHS Form 5161-1 (OMB Control Number 0920-0428) along with your application narrative. Forms are available at the following Internet address: www.cdc.gov/od/pgo/forminfo.htm.

If you do not have access to the Internet, or if you have difficulty accessing the forms on-line, you may contact the CDC Procurement and Grants Office Technical Information Management Section (PGO-TIM) at: 770-488-2700. Application forms can be mailed to you.

Submission Date, Time, and Address

The application must be received by 4 p.m. eastern time June 23, 2003. Submit the application to: Technical Information Management-PA# 03045, CDC Procurement and Grants Office, 2920 Brandywine Rd, Room 3000, Atlanta, GA 30341-4146.

Applications may not be submitted electronically.

CDC Acknowledgment of Application Receipt

A postcard will be mailed by PGO-TIM, notifying you that CDC has received your application.

Deadline

Applications shall be considered as meeting the deadline if they are received before 4 p.m. eastern time on the deadline date. Any applicant who sends their application by the United States Postal Service or commercial delivery services must ensure that the carrier will be able to guarantee delivery of the application by the closing date and time. If an application is received after closing due to: (1) Carrier error, when the carrier accepted the package with a guarantee for delivery by the closing date and time, or (2) significant weather delays or natural disasters, CDC will upon receipt of proper documentation, consider the application as having been received by the deadline.

Any application that does not meet the above criteria will not be eligible for competition, and will be discarded. The applicant will be notified of their failure to meet the submission requirements.

H. Evaluation Criteria

Application

Applicants are required to provide measures of effectiveness that will demonstrate the accomplishment of the various identified objectives of the grant. Measures of effectiveness must relate to the performance goals, which are stated in the purpose section of this announcement. Measures must be objective and quantitative and must measure the intended outcome. These measures of effectiveness must be submitted with the application and will be an element of evaluation.

An independent review group appointed by CDC will evaluate each application against the following criteria:

1. Experience (15 Points)

The extent to which the applicant documents more than five years of experience in representing program officials who are actively engaged in directing STD Prevention Program efforts, in providing a National network of communications and support to state and local STD Prevention Programs, and in expanding National level partnerships to support the development of STD prevention staff and the enhancement of STD Prevention Program efforts.

2. Collaboration and Representation (15 Points)

The extent to which applicant organizations have representatives with established day-to-day programmatic relationships with state/local STD Prevention programs in every U.S. state and U.S. Territory. The extent to which organization includes representatives of STD Prevention Programs who are actively engaged in directing STD Prevention Program efforts, and who represent State and local STD Prevention program efforts from all parts of the nation.

3. Understanding of the Project (15 points)

Extent to which the applicant understands the requirements, problems, objectives, complexities, and interactions required of this project.

4. Objectives (15 points)

Degree to which the proposed objectives are clearly stated, realistic, time phased, and related to the purpose of this project.

5. Operational Plan and Timetable (15 points)

The extent to which the applicant's plan to carry out the activities proposed is feasible and consistent with the stated objectives in this proposal. The extent to which the timetable incorporates major activities and milestones that is specific, measurable and realistic. Dates, tasks, and persons responsible for accomplishing tasks should be included.

6. Staff Capacity (15 points)

Extent to which the professional personnel proposed to be involved in administering this project and the professional personnel proposed to provide program leadership has the capacity to perform the work proposed. This would include individual qualifications with evidence of past achievements for staff identified.

7. Evaluation Plan (10 points)

The extent to which the evaluation plan appears feasible for monitoring progress toward meeting project objectives. In addition to evaluating outcome-related project objectives, the plan should clearly describe how the grantee will use performance measures to track internal processes.

8. Budget (not scored)

The budget should be reasonable, clearly justified, and consistent with the intended use of funds.

I. Other Requirements

Technical Reporting Requirements

Provide CDC with original plus two copies of:

1. Interim progress report, no less than 90 days before the end of the budget period. The progress report will serve as your non-competing continuation application and must include the following elements:

a. Current Budget Period Activities Objectives.

b. Current Budget Period Financial Progress.

c. New Budget Period Program Proposed Activity Objectives.

d. Detailed Line-Item Budget and Justification.

e. Additional Requested Information.

2. Financial status report, no more than 90 days after the end of the budget period.

3. Final financial and performance reports, no more than 90 days after the end of the project period.

Send all reports to the Grants Management Specialist identified in the “Where to Obtain Additional Information” section of this announcement.

Additional Requirements

The following additional requirements are applicable to this program. For a complete description of each, see Attachment I of this program announcement as posted on the CDC Web site.

Executive Order 12372 does not apply to this program.

AR-9—Paperwork Reduction Act Requirements

AR-10—Smoke-Free Workplace Requirements

AR-11—Healthy People 1020

AR-12—Lobbying Restrictions

AR-14—Accounting System Requirements

AR-15—Proof of Non-profit Status

J. Where To Obtain Additional Information

This and other CDC announcements, the necessary applications, and associated forms can be found on the CDC Web site, Internet address: http://www.cdc.gov. Click on “Funding” then “Grants and Cooperative Agreements''.

For general questions about this announcement, contact: Technical Information Management, CDC Procurement and Grants Office, 2920 Brandywine Road, Atlanta, GA 30341-4146. Telephone: 770-488-2700.

For business management and budget assistance contact: Gladys Gissentanna, Contract Specialist, CDC Procurement and Grants Office, 2920 Brandywine Rd., Atlanta, GA 30341-4146. Telephone: 770-488-2753. E-mail address: gcg4@cdc.gov.

For program technical assistance, contact: Michael Mitchell, National Center for HIV, STD, and TB Prevention, Division of STD Prevention, 1600 Clifton Road, Mailstop E-02, Atlanta, Georgia. 404-639-8534. mjm2@cdc.gov.

Dated: April 17, 2003.
Sandra R. Manning,
Director, Procurement and Grants Office, Centers for Disease Control and Prevention.

[FR Doc. 03-10110 Filed 4-23-03; 8:45 am]

BILLING CODE 4163-18-P